DEPARTMENT OF TRANSPORTATION

Federal Highway Administration

Notice of Federal Agency Actions on Proposed Transportation Project in Ohio

AGENCY: Federal Highway Administration (FHWA), DOT.

ACTION: Notice of Limitation on Claims for Judicial Review of Actions by FHWA and Other Federal Agencies.

SUMMARY: This notice announces actions taken by the FHWA and other Federal Agencies that are final within the meaning of 23 U.S.C. 139(l)(1). The actions relate to a proposed highway project, U.S. Route 24, from U.S. Route 6 near the City of Napoleon in Henry County to just west of Interstate Route 475 near the City of Toledo in Lucas County in the State of Ohio. The Federal actions, taken as a result of an environmental review process under the National Environmental Policy Act, 42 U.S.C. 4321-4351 (NEPA), determined certain issues relating to the proposed project. Those actions grant licenses, permits, and approvals for the project.

DATES: By this notice, the FHWA is advising the public that it has made decisions that are subject to 23 U.S.C. 139(l)(1) and are final within the meaning of that law. A claim seeking judicial review of the Federal agency decisions on the proposed highway project will be barred unless the claim is filed on or before May 21, 2007. If the Federal law that authorizes judicial review of a claim provides a time period of less than 180 days for filing such claim, then that shorter time period still applies.

FOR FURTHER INFORMATION CONTACT: For FHWA: Mr. Mark L. Vonder Embse, P.E., Senior Transportation Engineer, Federal Highway Administration, 200 North High Street, Columbus, Ohio, 43215; e-mail: mark.vonderembse@fhwa.dot.gov; telephone: (614) 280-6854; FHWA Ohio Division Office's normal business hours are 8 a.m. to 4:30 p.m. (eastern time). You also may contact Mr. W. Michael Ligibel, Ohio Department of Transportation, 317 East Poe Road, Bowling Green, Ohio 43402; telephone: (419) 353-8131.

SUPPLEMENTARY INFORMATION: Notice is hereby given that the FHWA has issued a Record of Decision (ROD) for the following highway project in the State of Ohio: U.S. Route 24, from U.S. Route 6 near the City of Napoleon in Henry County to west of Interstate Route 475 near the City of Toledo in Lucas County. The project will be a 21.8 mile long, four-lane divided limited access highway on new alignment. It will begin east of the existing Napoleon bypass. It will then proceed in an easterly and northeasterly direction passing to the south of the community of Liberty Center and staying north of the existing U.S. Route 24, and west and north of the Village of Waterville. The improvements will end at the existing 4-lane divided section of U.S. Route 24 southwest of the existing U.S. Route 24 and Stitt Road interchange. The actions by the Federal agencies, and the laws under which such actions were taken, are described in the Draft Environmental Impact Statement (DEIS) for the project, approved on September 8, 2004, in the Final Environmental Impact Statement (FEIS) for the project, approved on March 31, 2006, in the FHWA Record of Decision (ROD) issued on September 15, 2006, and in other documents in the FHWA administrative record. The DEIS, FEIS, ROD, and other documents in the FHWA administrative record file are available by contacting the FHWA or the Ohio Department of Transportation at the addresses provided above. The FHWA DEIS, FEIS, and ROD can be viewed at the Toledo-Lucas County Public Library-Maumee Branch, Toledo-Lucas County Public Library-Main Branch, Liberty Center Public Library, Napoleon Public Library, Toledo-Lucas County Public Library, Toledo Metropolitan Area Council of Governments, Henry County Engineer's Office, Lucas County Engineer's Office, and the ODOT District Two Office.

This notice applies to all Federal agency decisions that are final within the meaning of 23 U.S.C. 139(l)(1) as of the issuance date of this notice and all laws under which such actions were taken, including but not limited to:

1. General: National Environmental Policy Act (NEPA), 42 U.S.C. 4321-4351; Federal-Aid Highway Act, 23 U.S.C. 109 and 23 U.S.C. 128.

2. Air: Clean Air Act, 42 U.S.C. 7401-7671(q).

3. Land: Section 4(f) of the Department of Transportation Act of 1966, 49 U.S.C. 303 and 23 U.S.C. 138; Landscaping and Scenic Enhancement (Wildflowers), 23 U.S.C. 319.

4. Wildlife: Endangered Species Act [16 U.S.C. 1531-1544 and 1536], Fish and Wildlife Coordination [16 U.S.C. 661-667(d)], Migratory Bird Treaty Act [16 U.S.C. 703-712].

5. Wetlands and Water Resources: Land and Water Conservation Fund (LWCF), 16 U.S.C. 4601-4604; Safe Drinking Water Act (SDWA), 42 U.S.C. 300(f)-300(j)(6); Wild and Scenic Rivers Act, 16 U.S.C. 1271-1287; Emergency Wetlands Resources Act, 16 U.S.C. 3921, 3931; TEA-21 Wetlands Mitigation, 23 U.S.C. 103(b)(6)(m), 133(b)(11); Flood Disaster Protection Act, 42 U.S.C. 4001-4128.

6. Historic and Cultural Resources: Section 106 of the National Historic Preservation Act of 1966, as amended, 16 U.S.C. 470(f) et seq.; Archeological Resources Protection Act of 1977 [16 U.S.C. 470 (aa)-11]; Archeological and Historical Preservation Act [16 U.S.C. 469-469(c)]; Native American Grave Protection and Repatriation Act (NAGPRA) [25 U.S.C. 3001-3013].

7. Social and Economic: Civil Rights Act of 1964 [42 U.S.C. 2000(d)-2000(d)(1)]; American Indian Religious Freedom Act [42 U.S.C. 1996]; Farmland Protection Policy Act (FPPA) [7 U.S.C. 4201-4209].

8. Executive Orders: E.O. 11990 Protection of Wetlands; E.O. 11988 Floodplain Management; E.O. 12898, Federal Actions to Address Environmental Justice in Minority Populations and Low Income Populations; E.O. 11593 Protection and Enhancement of Cultural Resources; E.O. 13007 Indian Sacred Sites; E.O. 13287 Preserve America; E.O. 13175 Consultation and Coordination with Indian Tribal Governments; E.O. 11514 Protection and Enhancement of Environmental Quality; E.O. 13112 Invasive Species.

(Catalog of Federal Domestic Assistance Program Number 20.205, Highway Planning and Construction. The regulations implementing Executive Order 12372 regarding intergovernmental consultation on Federal programs and activities apply to this program.)

Authority : 23 U.S.C. 139(l)(1).

Issued on: October 30, 2006.
Patrick A. Bauer,
Assistant Division Administrator, Columbus, Ohio.

[FR Doc. E6-19632 Filed 11-20-06; 8:45 am]

BILLING CODE 4910-22-P